DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for eight of its 13 national marine sanctuary advisory councils and Northwestern Hawaiian Islands Coral Reef Ecosystem Reserve Advisory Council (advisory councils). Vacant seats, including positions (i.e., primary member and alternate), for each of the advisory councils are listed in this notice under SUPPLEMENTARY INFORMATION. Applicants are chosen based upon their particular expertise and experience in relation to the seat for which they are applying; community and professional affiliations; views regarding the protection and management of marine or Great Lake resources; and possibly the length of residence in the area affected by the sanctuary. Applicants chosen as members or alternates should expect to serve two or three year terms, pursuant to the charter of the specific national marine sanctuary advisory council or Northwestern Hawaiian Islands Coral Reef Ecosystem Reserve Advisory Council.

DATES: Applications are due before or by Wednesday, August 31, 2016.

ADDRESSES: Application kits are specific to each advisory council. As such, application kits must be obtained from and returned to the council-specific addresses noted below.

• Channel Islands National Marine Sanctuary Advisory Council: Jessica Morten, NOAA Channel Islands National Marine Sanctuary, University of California, Santa Barbara, Ocean Science Education Building 514, MC 6155, Santa Barbara, CA 93106; 805-893-6433; email Jessica.Morten@noaa.gov; or download applications from http://channelislands.noaa.gov/sac/council_news.html.

• Cordell Bank National Marine Sanctuary Advisory Council: Lilli Ferguson, Cordell Bank National Marine Sanctuary, P.O. Box 159, Olema, CA 94950; 415-464-5265; email Lilli.Ferguson@noaa.gov; or download applications from http://cordellbank.noaa.gov.

• Florida Keys National Marine Sanctuary Advisory Council: Beth Dieveney, Florida Keys National Marine Sanctuary, 33 East Quay Road, Key West, FL 33040; 305-809-4710; email Beth.Dieveney@noaa.gov; or download applications from http://floridakeys.noaa.gov/sac/welcome.html?s=sac.

• Greater Farallones National Marine Sanctuary Advisory Council: Carolyn Gibson, Greater Farallones National Marine Sanctuary, 991 Marine Drive, The Presidio, San Francisco, CA 94129; 415-970-5252; email Carolyn.Gibson@noaa.gov; or download applications from http://farallones.noaa.gov/manage/sac.html.

• Hawaiian Islands Humpback Whale National Marine Sanctuary Advisory Council: Shannon Ruseborn, NOAA Inouye Regional Center, NOS/ONMS/HIHWNMS/Shannon Ruseborn, 1845 Wasp Boulevard, Building 176, Honolulu, HI 96818; 808-725-5905; email Shannon.Ruseborn@noaa.gov; or download applications from http://hawaiihumpbackwhale.noaa.gov/council/council_app_accepting.html.

• Monitor National Marine Sanctuary Advisory Council: William Sassorossi, Monitor National Marine Sanctuary, 100 Museum Drive, Newport News, VA 23606; 757-591-7329; email William.Sassorossi@noaa.gov; or download applications from http://monitor.noaa.gov/advisory/news.html.

• National Marine Sanctuary of American Samoa Advisory Council: Joseph Paulin, National Marine Sanctuary of American Samoa, Tauese P.F. Sunia Ocean Center, P.O. Box 4318, Pago Pago, American Samoa 96799; 684-633-6500 extension 226; email Joseph.Paulin@noaa.gov; or download applications from http://americansamoa.noaa.gov/.

• Northwestern Hawaiian Islands Coral Reef Ecosystem Reserve Advisory Council: Allison Ikeda, NOAA Inouye Regional Center, NOS/ONMS/PMNM/Allison Ikeda, 1845 Wasp Boulevard, Building 176, Honolulu, HI 96818; 808-725-5818; email Allison.Ikeda@noaa.gov; or download applications from www.papahanaumokuakea.gov/council.

• Stellwagen Bank National Marine Sanctuary Advisory Council: Elizabeth Stokes, Stellwagen Bank National Marine Sanctuary, 175 Edward Foster Road, Scituate, MA 02066; 781-545-8026 extension 201; email Elizabeth.Stokes@noaa.gov; or download applications from http://stellwagen.noaa.gov/.

FOR FURTHER INFORMATION CONTACT: For further information on a particular national marine sanctuary advisory council, please contact the individual identified in the Addresses section of this notice.

SUPPLEMENTARY INFORMATION: ONMS serves as the trustee for a network of underwater parks encompassing more than 170,000 square miles of marine and Great Lakes waters from Washington state to the Florida Keys, and from Lake Huron to American Samoa. The network includes a system of 13 national marine sanctuaries and Papahānaumokuākea and Rose Atoll marine national monuments. National marine sanctuaries protect our nation's most vital coastal and marine natural and cultural resources, and through active research, management, and public engagement, sustain healthy environments that are the foundation for thriving communities and stable economies. One of the many ways ONMS ensures public participation in the designation and management of national marine sanctuaries is through the formation of advisory councils. National marine sanctuary advisory councils are community-based advisory groups established to provide advice and recommendations to the superintendents of the national marine sanctuaries and Papahānaumokuākea Marine National Monument on issues including management, science, service, and stewardship; and to serve as liaisons between their constituents in the community and the sanctuary. Additional information on ONMS and its advisory councils can be found at http://sanctuaries.noaa.gov. Materials related to the purpose, policies, and operational requirements for advisory councils can be found in the charter for a particular advisory council (http://sanctuaries.noaa.gov/management/ac/council_charters.html) and the National Marine Sanctuary Advisory Council Implementation Handbook (http://sanctuaries.noaa.gov/management/ac/acref.html).

The following is a list of the vacant seats, including positions (i.e., primary member or alternate), for each of the advisory councils currently seeking applications for primary members and alternates:

Channel Islands National Marine Sanctuary Advisory Council: Education (Primary); Education (Alternate); Tourism (Primary); Tourism (Alternate).

Cordell Bank National Marine Sanctuary Advisory Council: Education (Primary); Education (Alternate); Fishing (Primary); Fishing (Alternate).

Florida Keys National Marine Sanctuary Advisory Council: Boating Industry (Primary); Boating Industry (Alternate); Citizen-at-Large (Upper Keys) (Primary); Citizen-at-Large (Upper Keys) (Alternate); Diving (Upper Keys) (Primary); Diving (Upper Keys) (Alternate); Fishing (Charter Sports Fishing) (Primary); Fishing (Charter Sports Fishing) (Alternate); Fishing (Recreational) (Primary); Fishing (Recreational) (Alternate); Research and Monitoring (Primary); Research and Monitoring (Alternate); Tourism (Lower Keys) (Primary); Tourism (Lower Keys) (Alternate).

Greater Farallones National Marine Sanctuary Advisory Council: Mendocino/Sonoma County Community-at-Large (Primary); Mendocino/Sonoma County Community-at-Large (Alternate); Youth (Primary).

Hawaiian Islands Humpback Whale National Marine Sanctuary Advisory Council: Citizen-at-Large (Primary); Conservation (Primary); Education (Primary); Honolulu County (Primary); Lāna‘i Island (Primary); Moloka‘i Island (Primary); Moloka‘i Island (Alternate); Native Hawaiian (Primary); Ocean Recreation (Primary).

Monitor National Marine Sanctuary Advisory Council: Heritage Tourism (Primary); Recreational/Commercial Fishing (Primary).

National Marine Sanctuary of American Samoa Advisory Council: Education (Primary).

Northwestern Hawaiian Islands Coral Reef Ecosystem Reserve Advisory Council: Commercial Fishing (Primary); Commercial Fishing (Alternate); Conservation (Primary); Native Hawaiian (Alternate); Native Hawaiian Elder (Primary); Native Hawaiian Elder (Alternate); Research (Alternate).

Stellwagen Bank National Marine Sanctuary Advisory Council: Business/Industry (Alternate).

Authority: 16 U.S.C. 1431 et seq.

(Federal Domestic Assistance Catalog Number 11.429 Marine Sanctuary Program)

Dated: June 24, 2016.
John Armor,
Acting Director, Office of National Marine Sanctuaries, National Ocean Service, National Oceanic and Atmospheric Administration.

[FR Doc. 2016-17917 Filed 7-29-16; 8:45 am]

BILLING CODE 3510-NK-P